LEGAL SERVICES CORPORATION

Sunshine Act Meeting: Board of Directors and Operations & Regulations Committee Telephonic Meetings

AGENCY: Legal Services Corporation

ACTION: Change Notice

SUMMARY: On November 6, 2016, the Legal Services Corporation (LSC) published a notice in the Federal Register (81 FR 80686) titled “Board of Directors will meet telephonically on November 22, 2016. The meeting will commence at 2:00 Eastern Standard Time (EST). Immediately following the Board of Directors telephonic meeting, the Operations and Regulations Committee will hold a telephonic meeting.” A correction to change item #2 on the Board of Directors Agenda to read; Consider and act on the Board of Directors' transmittal to accompany the Inspector General's Semiannual Report to Congress for the period of April 1, 2016 through September 30, 2016, all other items remain consecutively the same. This document changes the notice by revising the Board of Directors Agenda by changing item #2 of the agenda to read; Consider and act on the Board of Directors' transmittal to accompany the Inspector General's Semiannual Report to Congress for the period of April 1, 2016 through September 30, 2016

CHANGES IN THE MEETING: Item #2 of the Board of Directors Agenda.

DATES: This change is effective November 16, 2016.

FOR FURTHER INFORMATION CONTACT: Katherine Ward, Executive Assistant to the Vice President for Legal Affairs and General Counsel, Legal Services Corporation, 3333 K Street NW., Washington, DC 20007; (202) 295-1500; kward@lsc.gov.

Dated: November 16, 2016.
Katherine Ward,
Executive Assistant to the Vice President for Legal Affairs and General Counsel.

[FR Doc. 2016-27918 Filed 11-16-16; 11:15 am]

BILLING CODE 7050-01-P